DEPARTMENT OF COMMERCE

Foreign-Trade Zones Board

[B-28-2018]

Foreign-Trade Zone (FTZ) 37—Orange County, New York; Authorization of Production Activity; Takasago International Corp. (U.S.A.), (Fragrances), Harriman, New York

On April 30, 2018, Takasago International Corp. (U.S.A.) submitted a notification of proposed production activity to the FTZ Board for its facility within FTZ 37—Site 10, in Harriman, New York.

The notification was processed in accordance with the regulations of the FTZ Board (15 CFR part 400), including notice in the Federal Register inviting public comment (83 FR 20033, May 7, 2018). On August 28, 2018, the applicant was notified of the FTZ Board's decision that no further review of the activity is warranted at this time. The production activity described in the notification was authorized, subject to the FTZ Act and the FTZ Board's regulations, including Section 400.14.

Dated: August 28, 2018.
Andrew McGilvray,
Executive Secretary.

[FR Doc. 2018-19209 Filed 9-4-18; 8:45 am]

BILLING CODE 3510-DS-P